DEPARTMENT OF HEALTH AND HUMAN SERVICES

National Institutes of Health

Center for Scientific Review; Amended Notice of Meeting

Notice is hereby given of a change in the meeting of the Behavioral Genetics and Epidemiology Study Section, October 8, 2013, 8:00 a.m. to October 8, 2013, 6:00 p.m., Melrose Hotel, 2430 Pennsylvania Ave. NW., Washington, DC 20037 which was published in the Federal Register on September 11, 2013, 78 FR 55753.

The meeting will be held at the National Institutes of Health, 6701 Rockledge Drive, Bethesda, MD 20892 on December 5, 2013, starting at 8:00 a.m. and ending at 6:00 p.m. The meeting is closed to the public.

Dated: October 25, 2013.
Anna Snouffer,
Deputy Director, Office of Federal Advisory Committee Policy.

[FR Doc. 2013-25885 Filed 10-30-13; 8:45 am]

BILLING CODE 4140-01-P